Presidential Determination No. 2006-14 of May 12, 2006

Certification on Rescission of Libya's Designation as a State Sponsor of Terrorism

Memorandum for the the Secretary of State

Pursuant to the Constitution and laws of the United States, including section 301 of title 3, United States Code, and consistent with section 6(j)(4)(B) of the Export Administration Act of 1979, Public Law 96-72, as amended (50 U.S.C. App. 2405(j)), and as continued in effect by Executive Order 13222 of August 17, 2001, I hereby certify, with respect to the rescission of the determination of December 29, 1979, regarding Libya, that:

(i) the Government of Libya has not provided any support for international terrorism during the preceding 6-month period, and

(ii) the Government of Libya has provided assurances that it will not support acts of international terrorism in the future.

This certification shall also satisfy the provisions of section 620A(c)(2) of the Foreign Assistance Act of 1961, Public Law 87-195, as amended (22 U.S.C. 2371(c)), and section 40(f)(1)(B) of the Arms Export Control Act, Public Law 90-629, as amended (22 U.S.C. 2780(f)).

You are authorized and directed to report this certification and the attached memorandum justifying the rescission to the Congress and to arrange for their publication in the Federal Register.

B

THE WHITE HOUSE,

Washington, May 12, 2006.

[FR Doc. 06-4929

Filed 5-25-06; 8:45 am]

Billing code 4710-10-P